DEPARTMENT OF LABOR

Office of the Secretary

Submission for OMB Review: Comment Request

September 21, 2004.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting the Department of Labor (DOL). To obtain documentation, contact Darrin King on (202) 693-4129 (this is not a toll-free number) or e-mail: king.darrin@dol.gov.

Comments should be sent to Office of Information and Regulatory Affairs, Attn: OMB Desk Officer for the Employment Standards Administration (ESA), Office of Management and Budget, Room 10235, Washington, DC 20503, (202) 395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: Applications to Employ Special Industrial Homeworkers and Workers with Disabilities.

OMB Number: 1215-0005.

Frequency: On occasion; Semi-annually; and Annually.

Type of Response: Reporting.

Affected Public: Business and other for-profit; Individuals or households; Not-for-profit institutions; Farms; and State, Local, or Tribal Government.

Number of Respondents: 4,550.

Form | Annual responses | Average response time (hours) | Annual burden hours
WH-2 | 50 | 0.5 | 25
WH-226 | 4,500 | 0.75 | 3,375
WH-226A | 12,000 | 0.75 | 9,000
Total | 16,550 |  | 12,400

Total Annualized Capital/Startup Costs: $0.

Total Annual Costs (Operating/Maintaining Systems or Purchasing Services): $1,820.

Description: This collection of information is necessary to determine whether respondents will be authorized to pay sub-minimum wages to handicapped individuals and employ homeworkers in the restricted industries under the provisions of sections 11(d) and 14(c) of the Fair Labor Standards Act.

Agency: Employment Standards Administration.

Type of Review: Extension of currently approved collection.

Title: Application for Approval of a Representative's Fee in Black Lung Claim Proceedings Conducted by the U.S. Department of Labor.

OMB Number: 1215-0171.

Frequency: On occasion.

Type of Response: Reporting.

Affected Public: Business or other for-profit.

Number of Respondents: 255.

Annual Responses: 255.

Average Response Time: 42 minutes.

Annual Burden Hours: 179.

Total Annualized Capital/Startup Costs: $0.

Total Annual Costs (Operating/Maintaining Systems or Purchasing Services): $102.

Description: The purpose of the Form CM-972 is to collect pertinent data to determine if the a representative's services and fees can be paid under the Black Lung Benefits Act (30 U.S.C. 901 and 20 CFR 725.365 and 725.366).

Ira L. Mills,
Departmental Clearance Officer.

[FR Doc. 04-21656 Filed 9-27-04; 8:45 am]

BILLING CODE 4510-CK-P